ENVIRONMENTAL PROTECTION AGENCY

[EPA-HQ-OECA-2013-0316; FRL-9966-44-OEI]

Information Collection Request Submitted to OMB for Review and Approval; Comment Request; NSPS for Onshore Natural Gas Processing Plants (Renewal)

AGENCY: Environmental Protection Agency (EPA).

ACTION: Notice.

SUMMARY: The Environmental Protection Agency has submitted an information collection request (ICR), “NSPS for Onshore Natural Gas Processing Plants (Renewal)” (EPA ICR No. 1086.11, OMB Control No. 2060-0120), to the Office of Management and Budget (OMB) for review and approval in accordance with the Paperwork Reduction Act. This is a proposed extension of the ICR, which is currently approved through August 31, 2017. Public comments were previously requested via the Federal Register (81 FR 26546) on May 3, 2016 during a 60-day comment period. This notice allows for an additional 30 days for public comments. A fuller description of the ICR is given below, including its estimated burden and cost to the public. An Agency may not conduct or sponsor, and a person is not required to respond to, a collection of information unless it displays a currently valid OMB control number.

DATES: Additional comments may be submitted on or before September 25, 2017.

ADDRESSES: Submit your comments, referencing Docket ID Number EPA-HQ-OECA-2013-0316, to: (1) EPA online using www.regulations.gov (our preferred method), or by email to docket.oeca@epa.gov, or by mail to: EPA Docket Center, Environmental Protection Agency, Mail Code 28221T, 1200 Pennsylvania Ave. NW., Washington, DC 20460; and (2) OMB via email to oira_submission@omb.eop.gov. Address comments to OMB Desk Officer for EPA.

EPA's policy is that all comments received will be included in the public docket without change including any personal information provided, unless the comment includes profanity, threats, information claimed to be Confidential Business Information (CBI), or other information whose disclosure is restricted by statute.

FOR FURTHER INFORMATION CONTACT: Patrick Yellin, Monitoring, Assistance, and Media Programs Division, Office of Compliance, Mail Code 2227A, Environmental Protection Agency, 1200 Pennsylvania Ave. NW., Washington, DC 20460; telephone number: (202) 564-2970; fax number: (202) 564-0050; email address: yellin.patrick@epa.gov.

SUPPLEMENTARY INFORMATION: Supporting documents which explain in detail the information that the EPA will be collecting are available in the public docket for this ICR. The docket can be viewed online at http://www.regulations.gov, or in person at the EPA Docket Center, WJC West, Room 3334, 1301 Constitution Ave. NW., Washington, DC. The telephone number for the Docket Center is 202-566-1744. For additional information about EPA's public docket, visit: http://www.epa.gov/dockets.

Abstract: The affected entities are subject to the General Provisions of the NESHAP at 40 CFR part 60, subpart A, and any changes, or additions to the Provisions specified at 40 CFR part 60, subparts KKK and LLL. Owners or operators of the affected facilities must submit a one-time-only report of any physical or operational changes, initial performance tests, and periodic reports and results. Owners or operators are also required to maintain records of the occurrence and duration of any startup, shutdown, or malfunction in the operation of an affected facility, or any period during which the monitoring system is inoperative. Reports are required semiannually at a minimum.

Form Numbers: None.

Respondents/affected entities: Owners or operators of onshore natural gas processing plants.

Respondent's obligation to respond: Mandatory (40 CFFR part 60, subparts KKK and LLL).

Estimated number of respondents: 484 (total).

Frequency of response: Initially, semiannually, and occasionally.

Total estimated burden: 102,000 hours (per year). Burden is defined at 5 CFR 1320.3(b).

Total estimated cost: $10,800,000 (per year), includes $68,400 annualized capital or operation & maintenance costs.

Changes in the Estimates: There is an adjustment decrease in the estimated labor hours and number of responses as currently identified in the OMB Inventory of Approved Burdens. The decrease is due to a projected decline in the number of sources subject to the regulation, as new and modified sources will become subject to NSPS Subpart OOOO. We expect on average 27 existing facilities under Subpart KKK and 3 facilities under Subpart LLL will undergo modifications each year such that they will become subject to Subpart OOOO. The burden of NSPS Subpart OOOO is accounted for under EPA ICR Number 2437.04 (OMB Control Number 2060-0673).

Courtney Kerwin,
Director, Regulatory Support Division.

[FR Doc. 2017-17985 Filed 8-24-17; 8:45 am]

BILLING CODE 6560-50-P.